DEPARTMENT of STATE

[Public Notice: 12480]

Proposed Establishment of a Federally Funded Research and Development Center—Second Notice

ACTION: Notice.

SUMMARY: The United States Department of State (DoS), Bureau of Administration, intends to sponsor a Federally Funded Research and Development Center (FFRDC) to facilitate public-private collaboration for numerous activities related to diplomacy and modernization. This is the second of three notices which must be published over a 90-day period in order to advise the public of the agency's intention to sponsor an FFRDC.

DATES: Written comments must be received by 5:00 p.m. Eastern time on August 15, 2024.

ADDRESSES: Please send any comments, identified by title of the action and Regulatory Information Number (RIN) by any of the following methods:

Through the Federal eRulemaking Portal at www.regulations.gov and search for nonrulemaking docket [DOS-2024-0021].

By email: Submit electronic comments to FFRDC@state.gov.

The summary of this rule can be found at www.regulations.gov/document/DOS-2024-0021.

SUPPLEMENTARY INFORMATION: The Department of State leads US engagement around the world building alliances and partnerships; facing up to aggression; aiding and supporting emerging democracies; and preserving U.S. interests abroad. In a rapidly changing world with shifting politics, accelerated economic developments, global challenges such as climate change, and the increasing role digitization plays for both opportunity and threats, the Department is committed to leading through both policy and operational engagement on behalf of the nation and our government.

In a letter introducing the Department of State and U.S. Agency for International Development Joint Strategic Plan for 2022-2026, Secretary Blinken stated, “we are working to modernize and equip the Department and USAID to lead on 21st-Century challenges and deliver for the American people.”

Achieving U.S. goals for global leadership over the next decade will require the following:

• A diplomatic corps to use data in new ways to develop more foresight and insight, to inform policy options, to take actions and measure their effectiveness;

• New cross-sector partnerships and coalitions;

• Intergovernmental partnerships with the Department of Defense, the intelligence agencies, the Departments of Commerce, Treasury, Homeland Security, and Health and Human Services, and cross-government Councils (e.g., National Economic Council, National Security Council);

• New capabilities to plan, manage and execute initiatives and programs;

• A workforce that uses digital technology as tools to advance democracy and protect our interests and counter the use of these same technologies as a threat; and

• An organization and operation that is agile and adaptive to a changing environment; attractive to new talent; and fosters long-term commitment between the organization and its people.

The Department requires long-term partnerships with organizations that can bring research, development, innovation, and support needed to guide the leadership and employees through this transformative period in our history. This will allow the Department to focus on the mission at hand, while adopting and integrating changes necessary to make consistent progress on these goals and surge, when needed, to address urgent issues that require data, partnerships, technology and insights applied in near-term operational situations.

To meet this need, the Department seeks to establish and sponsor one (1) FFRDC under the authority of 48 CFR 35.017.

FFRDC Center

The FFRDC will be available to provide a wide range of support including, but not limited to the activities under three focus areas delineated below. The Department anticipates that the focus areas below will be managed as a single-award FFRDC. This strategy and focus area list have been updated since the first Federal Register notice published on May 17, 2024:

• Diplomatic Innovation and Modernization (DIM)

The purpose of the DIM focus area is to strengthen global engagement and humanitarian outcomes by pioneering research and development initiatives that address emerging threats and foster international cooperation.

• Global CyberTech Solutions (GCS)

The purpose of the GCS focus area is to enhance global stability through cutting edge research and development in IT, cyber defense, systems engineering, and data analytics.

• Global Operations and Acquisitions (GOA)

The purpose of the GOA focus area is to advance diplomatic effectiveness through collaborative and cutting-edge acquisition methodologies and tools, and data assessments of broad scale Department needs, international cooperation, and innovative operational practices.

The FFRDC will partner with the Department of State in the design and pursuit of mission goals; provide rapid responsiveness to changing requirements for personnel in all aspects of strategic, technical and program management; recognize Government objectives as its own objectives, partner in pursuit of excellence in public service; and allow for use of the FFRDC by non-sponsors.

The Department is publishing this notice in accordance with 48 CFR 5.205(b) of the Federal Acquisition Regulations (FAR) to enable interested members of the public to provide comments on this proposed action. This is the second of three notices issued under the authority of 48 CFR 5.205(b).

Information Requested

In particular, we are interested in feedback regarding the proposed focus areas to be performed under the FFRDC, and the presence of any existing private- or public-sector capabilities in these areas that the Department should be considering.

The Department anticipates releasing the final RFP in calendar year 2024.

Public Comments

Since the first notice, the Department has received the following comments/questions and is hereby providing the following responses:

The Department received ten comments on the first notice.

Six of these expressed interest in submitting responses, capabilities, or eventually proposals for the FFRDC. The Department appreciates the interest and looks forward to receiving further comments/questions and submissions in response to the eventual RFP. While the Department is not taking meetings at this time, all interested parties should continue to monitor for the third Federal Register notice to receive more information about the upcoming acquisition actions and industry engagement activities.

One comment questioned whether this initiative would expand the State Department and its budget. At this time, the FFRDC is intended to provide long-term research and development in areas that the State Department is already exploring in other capacities and projects are intended to be funded through the Department's existing appropriated or other types of funds. The Department plans to initially provide oversight for the FFRDC by leveraging the existing Procurement Shared Services Working Capital Fund.

Another comment identified climate and sustainability research as a potential focus area, which the Department already plans to include under the “Emerging Threats” topic in the DIM focus area. This commenter also identified cybersecurity tracking and decryption techniques as well as telecommunications as areas for inclusion in the GCS focus area; however, this comment focused on stricter penalties and increased law enforcement and regulations, which is outside the scope of the Department's research and development requirements.

One comment suggested moving the “Systems Engineering, System Architecture and Integration” work elements from the “Information Technology and Cyber Operations FFRDC” to the “Emerging Threats, Concept Exploration, Experimentation and Evaluation” FFRDC. However, as a result of internal comments and requirements definitions, the focus areas have all been merged into one FFRDC, which makes this comment moot.

The final comment stated that the focus on technology duplicates existing bureaus' portfolios and requested a focus area on organizational development challenges; however, this focus area would fall under the GOA focus area and does not negate the need for long-term IT research and development activities that foster data and collaboration across the agency.

Michael W. Derrios,
Deputy Assistant Secretary for Acquisition, & Senior Procurement Executive, Department of State.

[FR Doc. 2024-17213 Filed 8-2-24; 8:45 am]

BILLING CODE 4710-24-P